DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground *Elevation in feet (NGVD) +Elevation in feet (NAVD) Modified
Sumter County, South Carolina
Docket No.: FEMA-B-7454
South Carolina | Sumter County | Beech Creek | Approximately 1.1 miles upstream of Barnwell Drive | *180
|  |  | Approximately 100 feet downstream of Edgehill Road | *225
|  | Beech Creek Tributary 1 | At the confluence with Beech Creek | *168
|  |  | Approximately 150 feet downstream of Raccoon Road | *193
|  | Brunson Branch | At the confluence with Mulberry Branch | *133
|  |  | Approximately 700 feet upstream of Oswego Highway | *144
|  | Brunson Branch | At the confluence with Brunson Branch | *134
|  | Tributary 1 | Approximately 0.6 mile upstream of the confluence of Cut Through 1 | *143
|  | Cane Savannah Creek | Approximately 200 feet downstream of Kolb Road | *138
|  |  | Approximately 250 feet upstream of Wedgefield Highway | *164
|  | Cut Through 1 | At the confluence with Brunson Branch Tributary 1 | *140
|  |  | Just downstream of Jerry Street | *144
|  | Cut Through 2 | At the confluence with Mulberry Branch | *134
|  |  | Just downstream of Jerry Street | *144
|  | Green Swamp | Approximately 250 feet downstream of Mason Road | *169
|  |  | Approximately 50 feet downstream of Brewington Road | *189
|  | Hatchet Camp Branch | At confluence with Cane Savannah Creek | *160
|  |  | Approximately 1.1 miles upstream of Bronco Road | *256
|  | Hope Swamp | At the confluence with Pudding Swamp | *108
|  |  | Approximately 100 feet downstream of Narrow Paved Road | *116
|  | Horsepen Branch | At the confluence with Green Swamp | *181
|  |  | Approximately 250 feet downstream of Stamey Livestock Road | *203
|  | Long Branch | Approximately 330 feet downstream of Broad Street | *173
|  |  | Approximately 350 feet downstream of Frierson Road | *223
|  | Lynches River | Approximately 7.7 miles downstream of Amwell Church Road | *99
|  |  | Approximately 1000 feet downstream of Interstate 95 | *120
|  | Mile Branch | At the confluence with Brunson Branch | *140
|  |  | Approximately 0.2 mile downstream of U.S. Route 378 and 76 | *143
|  | Mulberry Branch | At the confluence with Rocky Bluff Swamp | *133
|  |  | Approximately 150 feet downstream of Main Street | *167
|  | Mulberry Branch | At the confluence with Mulberry Branch | *134
|  | Tributary 1 | Approximately 1.3 miles upstream of the confluence with Mulberry Branch | *143
|  | Mush Swamp | Approximately 850 feet downstream of Loring Mill Pond Road | *162
|  |  | Approximately 50 feet upstream of Eagle Road | *204
|  | Nasty Branch | At the confluence with Cane Savannah Creek | *128
|  |  | Approximately 250 feet downstream of Bethel Church Road | *175
|  | Noyts Branch | At the confluence of Green Swamp | *129
|  |  | Approximately 350 feet upstream of Main Street | *159
|  | Pocalla Creek | At the confluence with Pocotaligo River | *121
|  |  | Approximately 250 feet downstream of South Guignard Drive | *168
|  | Pudding Swamp | Approximately 300 feet downstream of Forge Road | *103
|  |  | Approximately 200 feet downstream of Trinity Road | *125
|  | Rocky Bluff | Approximately 0.8 mile upstream of the confluence of Mulberry Branch | *134
|  |  | Approximately 900 feet downstream of Westbury Mill Road | *168
|  | Shot Pouch Branch | At the confluence with Green Swamp | *138
|  |  | Approximately 450 feet downstream of Jefferson Road | *176
|  | Sooks Branch | At the confluence of Green Swamp | *133
|  |  | Approximately 75 feet upstream of Council Lane | *157
#Depth in feet above ground
*National Geodetic Vertical Datum
+North American Vertical Datum
ADDRESSES:
City of Sumter:
Maps are available for inspection at 33 North Main Street, Sumter, SC 29150.
Send comments to The Honorable Joseph T. McElveen Jr., Mayor, City of Sumter, P.O. Box 1449, Sumter, SC 29151.
Unincorporated Areas of Sumter County:
Maps are available for inspection at 33 North Main Street, Sumter, SC 29150.
Send comments to Mr. William T. Noonan, Sumter County Administrator, 13 East Canal Street, Sumter, SC 29150.

(Catalog of Federal Domestic Assistance No. 83.100, “Flood Insurance.”)

Dated: October 4, 2006.
David I. Maurstad,
Director, Mitigation Division, Federal Emergency Management Agency, Department of Homeland Security.

[FR Doc. E6-17262 Filed 10-16-06; 8:45 am]

BILLING CODE 9110-12-P